FEDERAL COMMUNICATIONS COMMISSION

47 CFR Part 64

[CG Docket 03-123; DA 09-1255]

Telecommunications Relay Services and Speech-to-Speech Services for Individuals With Hearing and Speech Disabilities

AGENCY: Federal Communications Commission.

ACTION: Proposed rule; extension of comment period.

SUMMARY: In this document, the Commission via the Consumer and Governmental Affairs Bureau (Bureau) extends the comment filing deadline for the Notice of Proposed Rulemaking (NPRM) published in the Federal Register May 21, 2009 (73 FR 23815). The Bureau finds that in this case an extension of the comment period is warranted to afford parties the necessary time to file comments that will result in a more complete record in this proceeding.

DATES: Comments are due July 6, 2009. Reply Comments are due July 20, 2009.

ADDRESSES: Interested parties may submit comments identified by CG Docket No. 03-123, by any of the following methods:

• Federal eRulemaking Portal: http://www.regulations.gov. Follow the instructions for submitting electronic filings.

• Federal Communications Commission's Electronic Comment Filing System (ECFS): http://www.fcc.gov/cgb/ecfs. Follow the instructions for submitting electronic filings.

• By filing paper copies.

For electronic filers through ECFS or the Federal eRulemaking Portal, if multiple docket or rulemaking numbers appear in the caption of this proceeding, filers must transmit one electronic copy of the comments for each docket or rulemaking number referenced in the caption. In completing the transmittal screen, filers should include their full name, U.S. Postal Service mailing address, and CG Docket No. 03-123. Parties may also submit an electronic comment by Internet e-mail. To get filing instructions, filers should send an e-mail to ecfs@fcc.gov, and include the following words in the body of the message, “get form <your e-mail address>.” A sample form and directions will be sent in response.

Paper Filers: Parties who choose to file by paper must file an original and four copies of each filing. Filings can be sent by hand or messenger delivery, by commercial overnight courier, or by first-class or overnight U.S. Postal Service mail (although the Commission continues to experience delays in receiving U.S. Postal Service mail). All filings must be addressed to the Commission's Secretary, Office of the Secretary, Federal Communications Commission.

The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

Commercial mail sent by overnight mail (other than U.S. Postal Service Express Mail and Priority Mail) must be sent to 9300 East Hampton Drive, Capitol Heights, MD 20743. U.S. Postal Service first-class, Express, and Priority mail should be addressed to 445 12th Street, SW., Washington, DC 20554.

To request materials in accessible formats for people with disabilities (Braille, large print, electronic files, audio format), send an e-mail to fcc504@fcc.gov or call the Consumer and Governmental Affairs Bureau at (202) 418-0530 (voice), (202) 418-0432 (TTY). DA 09-1255 can also be downloaded in Word or Portable Document Format (PDF) at: http://www.fcc.gov/cgb/dro/trs.html.

FOR FURTHER INFORMATION CONTACT: Thomas Chandler, Consumer and Governmental Affairs Bureau, Disability Rights Office, at (202) 418-1475 (voice), (202) 418-0597 (TTY), or e-mail: Thomas.Chandler@fcc.gov.

SUPPLEMENTARY INFORMATION: This is a summary of the Consumer and Governmental Affairs Bureau's document DA 09-1255. Pursuant to 47 CFR 1.415 and 1.419 of the Commission's rules, interested parties may file comments and reply comments on or before the dates indicated in the Dates section. The full text of DA 09-1255 and subsequently filed documents in this matter are available for public inspection and copying during regular business hours at the FCC Reference Information Center, Portals II, 445 12th Street, SW., Room CY-A257, Washington, DC 20554. They may also be purchased from the Commission's duplicating contractor at Portals II, 445 12th Street, SW., Room CY-B402, Washington, DC 20554; the contractor's Web site, http://www.bcpiweb.com; or by calling (800) 378-3160. DA 09-1255 and subsequently filed documents in this matter may also be found by searching ECFS at http://www.fcc.gov/cgb/ecfs (insert CG Docket No. 03-123 into the Proceeding block).

Synopsis

The Consumer and Governmental Affairs Bureau extends the comment period for issues raised in the Telecommunications Relay Services and Speech-to-Speech Services for Individuals with Hearing and Speech Disabilities, Public Notice and Notice of Proposed Rulemaking, CG Docket No. 03-123, FCC 09-39, published at 74 FR 23815, May 21, 2009 and 74 FR 23859, May 21, 2009 (PN and NPRM).

The NPRM portion seeks comment on whether, notwithstanding the rate methodology established in Telecommunications Relay Services and Speech-to-Speech Services for Individuals with Hearing and Speech Disabilities, Report and Order and Declaratory Ruling, CG Docket No. 03-123, FCC 07-186, published at 73 FR 44170, July 30, 2008, the Commission should modify the compensation rates for Video Relay Service (VRS) for the 2009-2010 Fund year. Pursuant to the NPRM, comments are presently due on June 4, 2009, and reply comments are due June 11, 2009. Sorenson Communications, Inc. (Sorenson), a VRS provider, filed Telecommunications Relay Services and Speech-to-Speech Services for Individuals with Hearing and Speech Disabilities, Motion to Rescind VRS Rate NPRM or, in the Alternative, to Extend the Comment Period, CG Docket No. 03-123 (May 19, 2009) (Motion to Rescind). A coalition of consumer organizations filed comments taking no position on Sorenson's Motion to Rescind, but supporting an extension of the comment period, see Telecommunications Relay Services and Speech-to-Speech Services for Individuals with Hearing and Speech Disabilities, CG Docket No. 03-123, Comments on Sorenson Communications, Inc.'s Motion to Rescind VRS Rate NPRM or, in the Alternative, to Extend the Comment Period, filed by Telecommunications for the Deaf and Hard of Hearing, Inc.; Association of Late-Deafened Adults, Inc.; National Association of the Deaf; Deaf and Hard of Hearing Consumer Advocacy Network; California Coalition of Agencies Serving the Deaf and Hard of Hearing; American Association of the Deaf-Blind; and Hearing Loss Association of America (May 26, 2009).

Although the Commission does not routinely grant extensions of time, pursuant to 47 CFR 1.46(a), the Commission finds that in this case an extension of the comment period is warranted to afford parties the necessary time to file comments that will result in a more complete record in this proceeding. This limited extension will not unduly delay the Commission's consideration of the issues.

Ordering Clauses

The Motion to Extend the Comment Period filed by Sorenson Communications, Inc., is granted to the extent indicated herein.

This action is taken pursuant to the authority provided in § 1.46 of the Commission's rules, 47 CFR 1.46, and under delegated authority pursuant to §§ 0.141 and 0.361 of the Commission's rules, 47 CFR 0.141, 0.361.

Federal Communications Commission.
Suzanne M. Tetreault,
Acting Deputy Chief, Consumer and Governmental Affairs Bureau.

[FR Doc. E9-13864 Filed 6-15-09; 8:45 am]

BILLING CODE 6712-01-P